DEPARTMENT OF JUSTICE

Notice of Lodging of Proposed Consent Decree Under the Clean Air Act

On June 20, 2019, the Department of Justice lodged for public comment a proposed Seventh Amendment to a 2008 Consent Decree under the Clean Air Act, 42 U.S.C. 7401, et seq. with Sinclair Wyoming Refining Company (SWRC or Refinery), located in Sinclair, Wyoming. Plaintiff United States and Plaintiff-Intervenor State of Wyoming allege that SWRC violated New Source Performance Standards emission limits for H2S, and in some instances SO2, in 40 CFR part 60, subparts J and Ja at its North and South Flares and at its three Tail Gas Treatment Units, which were subject to the 2008 Consent Decree. Plaintiffs further allege that SWRC failed to properly operate its monitoring devices at those units.

In the proposed Seventh Amendment, SWRC accepts the applicability of emissions standards put into place after 2008; agrees to maintain adequate capacity to control routine gases in the Flare Gas Recovery System (installed under the 2008 Consent Decree and subsequent amendments); agrees to improve its operation and maintenance of its continuous emissions monitoring systems; and agrees to pay a civil penalty of $1.6 million. It also agrees to enhanced stipulated penalties. The State of Wyoming joins the United States as a co-plaintiff in this matter.

The publication of this notice opens a period for public comment on the Consent Decree. Comments should be addressed to the Assistant Attorney General, Environment and Natural Resources Division, and should refer to United States et al. v. Holly Refining and Marketing-Tulsa, LLC, et al., DOJ # 90-5-2-1-07793/1. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $ 7.55 (25 cents per page reproduction cost) payable to the United States Treasury. For a paper copy without the exhibits, the cost is $ 3.00.

Robert Brook,
Assistant Section Chief, Environmental Enforcement Section, Environment and Natural Resources Division.

[FR Doc. 2019-13526 Filed 6-25-19; 8:45 am]

BILLING CODE 4410-15-P